DEPARTMENT OF COMMERCE

National Oceanic and Atmospheric Administration

RIN 0648-XG233

Northeast Regional Stock Assessment Workshop and Stock Assessment Review Committee Public Meeting

AGENCY: National Marine Fisheries Service (NMFS), National Oceanic and Atmospheric Administration (NOAA), Commerce.

ACTION: Notice of public meeting.

SUMMARY: NMFS and the Northeast Regional Stock Assessment Workshop (SAW) will convene the 66th SAW Stock Assessment Review Committee for the purpose of reviewing stock assessments of Summer Flounder and Striped Bass. The Northeast Regional SAW is a formal scientific peer-review process for evaluating and presenting stock assessment results to managers for fish stocks in the offshore U.S. waters of the northwest Atlantic. Assessments are prepared by SAW working groups and reviewed by an independent panel of stock assessment experts called the Stock Assessment Review Committee, or SARC. The public is invited to attend the presentations and discussions between the review panel and the scientists who have participated in the stock assessment process.

DATES: The public portion of the Stock Assessment Review Committee Meeting will be held from November 27, 2018-November 30, 2018. The meeting will commence on November 27, 2018 at 10 a.m. Eastern Standard Time. Please see SUPPLEMENTARY INFORMATION for the daily meeting agenda.

ADDRESSES: The meeting will be held in the S.H. Clark Conference Room in the Aquarium Building of the National Marine Fisheries Service, Northeast Fisheries Science Center (NEFSC), 166 Water Street, Woods Hole, MA 02543.

FOR FURTHER INFORMATION CONTACT: James Weinberg, 508-495-2352; email: james.weinberg@noaa.gov.

SUPPLEMENTARY INFORMATION: For further information, please visit the NEFSC website at http://www.nefsc.noaa.gov. For additional information about the SARC meeting and the stock assessment review, please visit the NMFS/NEFSC SAW web page at http://www.nefsc.noaa.gov/saw/.

Daily Meeting Agenda—SAW/SARC 66 Benchmark Stock Assessment for Summer Flounder and Striped Bass (Subject to Change; All Times Are Approximate and May Be Changed at the Discretion of the SARC Chair)

Tuesday, November 27, 2018

10 a.m.-10:45 a.m. Welcome Introductions, James Weinberg, SAW Chair; and Robert Latour, SARC Chair

10:45 a.m.-12:45 p.m. Summer Flounder Assessment Presentation, Mark Terceiro

12:45 p.m.-1:45 p.m. Lunch

1:45 p.m.-3:45 p.m. Summer Flounder Presentation (cont.), Mark Terceiro

3:45 p.m.-4 p.m. Break

4 p.m.-5:45 p.m. Summer Flounder SARC Discussion, Robert Latour, SARC Chair

5:45 p.m.-6 p.m. Public Comment Period

Wednesday, November 28, 2018

8:30 a.m.-10:30 a.m. Striped Bass Assessment Presentation, Katie Drew

10:30 a.m.-10:45 a.m. Break

10:45 a.m.-12:30 a.m. Striped Bass presentation (cont.), Katie Drew

12:30-1:30 p.m.—Lunch

1:30 p.m.-3:30 p.m. Striped Bass SARC Discussion, Robert Latour, SARC Chair

3:30 p.m.-3:45 p.m. Public comments

3:45 p.m.-4 p.m. Break

4 p.m.-6 p.m. Revisit with Presenters (Summer Flounder), Robert Latour, SARC Chair

Thursday, November 29, 2018

8:30 a.m.-10:30 a.m. Revisit with Presenters (Striped Bass), Robert Latour, SARC Chair

10:30 a.m.-10:45 a.m. Break

10:45 a.m.-12:15p.m. Review/Edit Assessment Summary Report (Summer Flounder), Robert Latour, SARC Chair

12:15-1:15 p.m. Lunch

1:15 p.m.-2:45 p.m. Review/Edit Assessment Summary Report (Summer Flounder), Robert Latour, SARC Chair

2:45 p.m.-3 p.m. Break

3 p.m.-6 p.m. Review/Edit Assessment Summary Report (Striped Bass), Robert Latour, SARC Chair

Friday, November 30, 2018

9 a.m.-5 p.m. SARC Report Writing

The meeting is open to the public; however, during the `SARC Report Writing' session on Friday November 30th the public should not engage in discussion with the SARC.

Special Accommodations

This meeting is physically accessible to people with disabilities. Special requests should be directed to James Weinberg at the NEFSC, 508-495-2352, at least 5 days prior to the meeting date.

Dated: November 2, 2018.
Karen H. Abrams,
Acting Director, Office of Sustainable Fisheries, National Marine Fisheries Service.

[FR Doc. 2018-24956 Filed 11-14-18; 8:45 am]

BILLING CODE 3510-22-P